DEPARTMENT OF THE TREASURY

Submission for OMB Review; Comment Request

June 16, 2003.

The Department of Treasury the has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 23, 2003 to be assured of consideration.

Internal Revenue Service (IRS)

OMB Number: New.

Form Number: None.

Type of Review: New collection.

Title: IRS Taxpayer Advocate Service Benchmark Survey, Focus Group and Telephone Interview.

Description: In September 2002, the Taxpayer Advocate Service (TAS) completed an extensive one-year research program that identified its target audience far more definitively. The research program showed that the actual target was much broader and included a wide mix of different life circumstances—ranging from Affluent Families and Empty Nesters at the higher end of the income scale, to the Stable Middle Class in the center, to the Surviving Spouses, Struggling Young Families, and Unmarried Poor at the lower end of the income scale. The research also showed that Small Business Owners are an important element of the target audience, while Non-English Speaking Taxpayers are not as important as had been believed (with the latter segment being no more prevalent in the TAS target audience than in the Total Taxpayer audience). TAS is planning communications to the Underserveds, with a focus on four key segments of the Underserved audience—Surviving Spouses, Struggling Young Families, Unmarried Poor, and Small Business Owners. It is necessary to conduct a marketing research effort to guide development of new communications and track their impact, while continuing the tracking of the target audience that is a part of the overall research strategy of TAS.

Respondents: Individuals or households.

Estimated Number of Respondents: 1,180.

Estimated Burden Hours Per Respondent: 5 hours, 26 minutes.

Frequency of Response: Other.

Estimated Total Reporting Burden: 6,422 hours.

OMB Number: 1545-1820.

Revenue Procedure Number: Revenue Procedure 2003-33.

Type of Review: Extension.

Title: Section 9100 Relief for 338 Elections.

Description: Pursuant to § 301.9100-3 of the Procedure and Administration Regulations, this procedure grants certain taxpayers an extension of time to file an election described in § 338(a) or § 338(h)(10) of the Internal Revenue Code to treat the purchase of the stock of a corporation as an asset acquisition.

Respondents: Business or other for-profit, Individuals or households.

Estimated Number of Respondents: 60.

Estimated Burden Hours Per Respondent: 5 hours.

Frequency of Response: On occasion.

Estimated Total Reporting Burden: 300 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 03-15745 Filed 6-20-03; 8:45 am]

BILLING CODE 4830-01-P